DEPARTMENT OF TRANSPORTATION

Federal Aviation Administration

Notice of Availability for the O'Hare Modernization Draft Environmental Impact Statement, Chicago O'Hare International Airport, Chicago, IL; Notice of Availability; and Notice of Public Hearing Dates, Times, and Locations

AGENCY: Federal Aviation Administration, DOT.

ACTION: Notice of availability of the O'Hare Modernization Draft Environmental Impact Statement (DEIS) and notice of intent to conduct public hearings.

Location of Proposed Action: O'Hare International Airport, Des Plaines and DuPage River Watersheds, Cook and DuPage Counties, Chicago, Illinois (Sections 4, 5, 6, 7, 8, 9, 16, 17, and 18, Township 41 North, Range 10 East, 3rd P.M.). Please see the airport location maps showing the locations of the wetlands and Waters of the U.S. potentially affected by the Build Alternatives from the DEIS available on the FAA's Web site at http://www.agl.faa.gov/OMP/DEIS.htm under the title of Notice of Availability of the Draft EIS and Notice of Intent to Hold Public Hearings.

SUMMARY: The Federal Aviation Administration (FAA) announces that the O'Hare Modernization Draft Environmental Impact Statement for Chicago O'Hare International Airport, Chicago, Illinois is available for public review and comment.

The DEIS identifies alternatives intended to address the projected needs of the Chicago region by reducing delays at O'Hare, thereby enhancing capacity of the National Airspace System, and ensuring that terminal facilities and supporting infrastructure can efficiently accommodate airport users. All of the development alternatives would result in wetland, property acquisition, air quality and noise impacts, as well as other impacts.

The FAA intends to host public hearings on the DEIS with the U.S. Army Corps of Engineers (USACE) and the Illinois Environmental Protection Agency (IEPA) Bureau of Water. The public hearings on the DEIS will be held on the following dates: Tuesday, February 22, 2005, at the Avalon Banquets, 1905 East Higgins Road, Elk Grove Village, Illinois 60007; Wednesday, February 23, 2005, at the Waterford Conference Center, 933 South Riverside Drive, Elmhurst, Illinois 60126; and Thursday, February 24, 2005, at the White Eagle, 6839 North Milwaukee Avenue, Niles, Illinois 60714. All three of these hearings will start at 2 p.m. (central standard time), and registration to participate in the hearings will conclude by 9 p.m. (central standard time). Repressentatives of FAA, USACE and IEPA will be available to provide information about the DEIS at an informational session held at the same time as the public hearings. Spanish language translators will be available at the hearings. The procedural rules governing the hearing are available from Michael W. MacMullen.

The comment period is open as of the date of this Notice of Intent and closes Wednesday, March 23, 2005. All comments are to be submitted to Michael W. MacMullen of the FAA, at the address shown below. The USACE and IEPA have requested that the FAA be the recipient of all comments regarding their actions. These comments must be sent to Michael W. MacMullen of the FAA at the address shown below, and the comments must be postmarked and email must be sent by no later than midnight, Wednesday, March 23, 2005.

The USACE is participating in the public hearings because implementation of any development alternatives, if selected, would require the USACE to approve issuance of a permit to fill wetlands under section 404 of the Clean Water Act Section. The IEPA is participating in the public hearings because implementation of any wetland development alternative, if selected, would also require IEPA to issue a Water Quality Certification under section 401 of the Clean Water Act.

SUPPLEMENTARY INFORMATION: The city of Chicago (City), Department of Aviation, as owner and operator of Chicago O'Hare International Airport (O'Hare or the Airport), PO Box 66142, Chicago, IL, 60666, proposes to modernize O'Hara to address existing and future capacity and delay problems. The City initiated master planning and the process of seeking FAA approval to amend its airport layout plan to depict the O'Hara Modernization Program (OMP). The City is also seeking the other necessary FAA approvals to implement the OMP and associated capital improvements and procedures. The FAA has prepared a DEIS addressing specific improvements at and adjacent to Chicago O'Hare International Airport, Chicago, Illilnois. FAA's DEIS presents an evaluation of the City's proposed project and reasonable alternatives. Under the City's concept, O'Hare's existing seven-runway configuration would be replaced by an eight-runway configuration, in which six runways would be oriented generally in the east/west direction, the existing northeast/southwest-oriented Runways 4L/22R and 4R/22L would remain, and Runways 14L/32R and 14R/32L would be closed.

Please see the airport location maps showing the locations of the wetlands and Waters of the U.S. kpotentially affected by the Build Alternatives from the DEIS available on the FAA's Web site at http://www.agl.faa.gov/OMP/DEIS.htm under the title Notice of Availability of the Draft EIS and Notice of Intent to Hold Public Hearings.

The Draft EIS is available for review until March 23, 2005, at the following libraries:

Arlington Heights Memorial Library, 500 North Dunton Ave., Arlington Heights;

Bellwood Public Library, 600 Bohland Ave., Bellwood;

Bentsenville Community Public Library, 200 S. Church Rd., Bensenville;

Berkeley Public Library, 1637 Taft Ave., Berkeley;

Bloomingdale Public Library, 101 Fairfield Way, Bloomingdale;

College of DuPage Library, 425 Fawell Blvd., Glen Ellyn;

Des Plaines Public Library, 1501 Ellinwood Ave., Des Plaines;

Eisenhower Public Library, 4652 N. Olcutt Ave., Harwood Heights;

Elk Grove Village Public Library, 1001 Wellington Ave., Elk Grove;

Elmhurst Public Library, 211 Prospect Ave., Elmhurst;

Elmwood Park Public Library, 4 W. Conti Pkwy., Elmwood Park;

Franklin Park Public Library, 10311 Grand Ave., Franklin Park;

Glendale Heights Library, 25 E. Fullerton Ave., Glendale Heights;

Glenview Public Library, 1930 Glenview Rd., Glenview;

Harold Washington Library, 400 S. State St., Chicago;

Hoffman Estates Library, 1550 Hassell Rd., Hoffman Estates;

Itasca Community Library, 500 W. Irving Park Rd., Itasca;

Lombard Public Library, 110 W. Maple St., Lombard;

Maywood Public Library, 121 S. 5th Ave., Maywood;

Melrose Park Public Library, 801 N. Broadway, Melrose Park;

Morton Grove Public Library, 6140 Lincoln Ave., Morton Grove;

Mount Prospect Public Library, 10 S. Emerson St., Mount Prospect;

Niles Public Library, 6960 W. Oakton St., Niles;

Northlake Public Library, 231 N. Wolf Rd., Northlake;

Oak Park Public Library, 834 Lake St., Oak Park;

Oakton Community College Library, 1616 E. Golf Rd., Des Plaines;

Park Ridge Public Library, 20 S. Prospect Ave., Park Ridge;

River Forest Public Library, 735 Lathrop Ave., River Forest;

River Grove Public Library, 8638 W. Grant Ave., River Grove;

Schamburg Townshhip District Library, 130 S. Roselle Rd., Schaumburg;

Schiller Park Public Library, 4200 Old River Rd., Schiller Park;

Villa Park Public Library, 305 S. Ardmore Ave., Villa Park; and

Wood Dale Public Library, 520 N. Wood Dale Rd., Wood Dale.

The public will be afforded the opportunity to present oral testimony and/or written testimony pertinent to the subject of the hearing. Testimony from a group or agency representative will be limited to 5 minutes. All others will be given 3 minutes. Written comments, faxes and e-mails should be submitted to Michael W. MacMullen of the FAA. The comment period is open as of the date of this Notice of Intent and closes Wednesday, March 23, 2005. Forms for providing written comments will also be available at the public hearings. Comments received via e-mail can only be accepted with the full name and address of the individual commenting. Additional court reporters will be present outside of the main hearing room to record oral testimony. Spanish language translators will be available at the hearings.

FOR FURTHER INFORMATION CONTACT: Michael W. MacMullen, Airports Environmental Program Manager, Federal Aviation Administration, Chicago Airports District Office, 2300 East Devon Avenue, Des Plaines, IL 60018. Telephone: 847-294-8339, FAX: 847-294-7046; e-mail address: ompeis@faa.gov.

Issued in Des Plaines, Illinois on January 14, 2005.
Barry Cooper,
Manager, Chicago Area Modernization Program Office, Great Lakes Region.

[FR Doc. 05-1161 Filed 1-79-05; 8:45 am]

BILLING CODE 7910-13-M